DEPARTMENT OF HEALTH AND HUMAN SERVICES

Administration for Children And Families

Announcement of Five Single Source Grant Awards

AGENCY: Office of Child Care, ACF, HHS.

ACTION: Award of five single source grants under the Tribal Home Visiting Program to the Eastern Band of Cherokee Indians, Cherokee, NC; Native American Health Center, Inc., Oakland, CA; Riverside-San Bernardino County Indian Health, Inc., Banning, CA; Taos Pueblo, Taos, NM; and United Indians of All Tribes Foundation, Seattle, WA.

CFDA Number: 93.508.

Statutory Authority: Section 511(h)(2)(A) of Title V of the Social Security Act, as added by Section 2951 of the Affordable Care Act of 2010 (Pub. L. 111-148, ACA), authorizes the Secretary of HHS to award grants to Indian Tribes (or a consortium of Indian Tribes), Tribal Organizations, or Urban Indian Organizations to conduct an early childhood home visiting program. Specifically, the legislation provides for a 3 percent set-aside of the total Maternal, Infant, and Early Childhood Home Visiting Program appropriation (authorized in Section 511(j)) for discretionary competitive grants to Tribal entities.

Summary: The Administration for Children and Families (ACF), Office of Child Care (OCC) announces the award of five Fiscal Year 2011 Tribal Maternal, Infant, and Early Childhood Home Visiting single source grants to the following:

Eastern Band of Cherokee Indians: $205,000. Cherokee, NC.

Eastern Band of Cherokee Indians will provide home visiting services to children under the age of 5 and their families on the Qualla Boundary.

Native American Health Center, Inc.: $227,000. Oakland, CA.

Native American Health Center, Inc. is an urban Tribal organization that will provide home visiting services to the American Indian and Alaska Native (AIAN) population in a five-county region in Northern California, which includes Oakland and San Francisco.

Riverside-San Bernardino County Indian Health, Inc.: $348,000. Banning, CA.

Riverside-San Bernardino County Indian Health, Inc. is a tribally controlled health care organization that will provide home visiting services to approximately 2,000 families on 10 tribal reservations in Riverside and San Bernardino Counties.

Taos Pueblo: $340,000. Taos, NM.

At the Taos Pueblo, there are currently no services for infants under the age of 18 months and their parents. The award will allow the Taos Pueblo to provide home visiting services for up to 300 families in order to complete the continuum of services for children, aged birth to age 5, and their families.

United Indians of All Tribes Foundation: $182,000. Seattle, WA.

This is an urban Indian organization that will provide home visiting services to the AIAN population in King County, WA, which represents more than 100 different Tribal entities.

The Tribal Maternal, Infant, and Early Childhood Home Visiting single source awards will support the grantees in conducting community needs assessments; planning for and implementation of high-quality, culturally relevant, evidence-based home visiting programs in at-risk Tribal communities for pregnant women and families with young children aged birth to kindergarten entry; and participate in research and evaluation activities to build the knowledge base on home visiting among American Indian and Alaska Native populations.

It is expected that the five grantees will continue with their projects for the remainder of a projected five-year project period by implementing home visiting activities for which grantees may receive noncompetitive continuation awards. Home visiting programs are intended to promote outcomes such as improvements in maternal and prenatal health, infant health, and child health and development; reduced child maltreatment; improved parenting practices related to child development outcomes; improved school readiness; improved family socio-economic status; improved coordination of referrals to community resources and supports; and reduced incidence of injuries, crime, and domestic violence.

Dates: July 1, 2011-June 30, 2016.

FOR FURTHER INFORMATION CONTACT: Carol Gage, Office of Child Care, 370 L'Enfant Promenade SW., Washington, DC 20047, Telephone: 202-690-6243, e-mail: carol.gage@acf.hhs.gov.

Dated: July 21, 2011.
Shannon L. Rudisill,
Director, Office of Child Care.

[FR Doc. 2011-18960 Filed 7-26-11; 8:45 am]

BILLING CODE 4184-43-P